DEPARTMENT OF TRANSPORTATION

Federal Aviation Administration

14 CFR Part 95

[Docket No. 30327; Amdt. No. 437]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, October 3, 2002.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Address: PO Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on August 23, 2002.
James J. Ballough,
Director, Flight Standards Service.

Adoption of the Amendment

Accordingly, pursuant to the authority delegated to me by the Administrator, part 95 of the Federal Aviation Regulations (14 CFR part 95) is amended as follows effective at 0901 UTC, October 3, 2002.

PART 95—[AMENDED]

1. The authority citation for part 95 continues to read as follows:

Authority: 49 U.S.C. 106(g), 40103, 40106, 40113, 40114, 40120, 44502, 44514, 44719, 44721.

§§ 95.6001, 95.6070, 95.6081, 95.6095, 95.6214, 95.6267, 95.6300, 95.6339, 95.6385, 95.6433, 95.6445, 95.6537, 95.6552, 95.7001, and 95.7072 [Amended]

2. Part 95 is amended to read as follows:

Revisions to IFR Altitudes & Changeover Points
[Amendment 437 Effective Date: October 3, 2002]
From | To | MEA
§ 95.6001 Victor Routes-U.S.
§ 95.6001 VOR Federal Airway 1 is Amended to Read in Part
Zaggy, NC FIX | Cofield, NC VORTAC | *3000
*1500—MOCA
§ 95.6070 VOR Federal Airway 70 is Amended to Read in Part
Pears, NC FIX | Cofield, NC VORTAC | *3000
*2000—MOCA
§ 95.6081 VOR Federal Airway 81 is Amended to Read in Part
Black Forest, CO VORTAC | *Hohum, CO FIX | **13000
*9500—MRA
**10000—MOCA
§ 95.6095 VOR Federal Airway 95 is Amended to Read in Part
Gorje, CO FIX | *Hohum, CO Fix | **17000
*13100—MCA Hohum FIX S BND
*9500—MRA
**16200—MOCA
§ 95.6214 VOR Federal Airway 214 is Amended to Read in Part
Dupont, DE VORTAC | Stefe, PA FIX | *3000
*1700—MOCA
Stefe, PA FIX | Yardley, PA VOR/DME | *6000
*2500—MOCA
§ 95.6267 VOR Federal Airway 267 is Amended to Read in Part
Craig, FL VORTAC | Baxly, GA FIX | 3000
§ 95.6300 VOR Federal Airway 300 is Amended to Read in Part
U.S. Canadian Border, | *Campo, ME FIX | **7200
*10000—MRA
**5700—MOCA
§ 95.6339 VOR Federal Airway 339 is Amended to Read in Part
Trent, KY FIX | Falmouth, KY VOR/DME | 3500
§ 95.6385 VOR Federal Airway 385 is Amended to Read in Part
Lubbock, TX VORTAC | *Wagun, TX FIX | *8000
*4600—MOCA
Wagun, TX FIX | Abilene, TX VORTAC | *8000
*3800—MOCA
§ 95.6433 VOR Federal Airway 433 is Amended to Read in Part
Dupont, DE VORTAC | Stefe, PA FIX | *3000
*1700—MOCA
Stefe, PA FIX | Yardley, PA VOR/DME | *6000
*2500—MOCA
§ 95.6445 VOR Federal Airway 445 is Amended to Read in Part
Dupont, DE VORTAC | Stefe, PA FIX | *3000
*1700—MOCA
Stefe, PA FIX | Yardley, PA VOR/DME | *6000
*2500—MOCA
§ 95.6537 VOR Federal Airway 537 is Amended to Read in Part
Presk, FL FIX | Cermo, FL FIX | *8000
*2000—MOCA
§ 95.6552 VOR Federal Airway 552 is Amended to Read in Part
Lake Charles, LA VORTAC | Hatha, LA FIX | 2000
Hatha, LA FIX | Lafayette, LA VORTAC | 2800

From | To | MEA | MAA
§ 95.7001 JET ROUTES
§ 95.7072 JET ROUTE NO. 72
Peach Springs, AZ VORTAC | Gallup, NM VORTAC | #18000 | 45000
#MEA is Established With a Gap in Navigation Signal Coverage.

[FR Doc. 02-22116 Filed 8-29-02; 8:58 am]

BILLING CODE 4910-13-M